DEPARTMENT OF DEFENSE

Department of the Army, Corps of Engineers

Notice of Intent To Prepare a General Reevaluation Report/Supplemental Environmental Impact Statement for the Ala Wai Canal Flood Risk Management Study, Honolulu, HI

AGENCY: Department of the Army, U.S. Army Corps of Engineers, DoD.

ACTION: Notice of intent.

SUMMARY: In accordance with the National Environmental Policy Act of 1969 (NEPA), as amended, and pursuant to the Hawaii Revised Statutes (HRS) Chapter 343 (Hawaii Environmental Policy Act (HEPA)), the Pittsburgh District, U.S. Army Corps of Engineers (Corps) is preparing a draft General Reevaluation Report/Supplemental Environmental Impact Statement (GRR/SEIS) to evaluate the opportunities to reduce the risk to life, safety and economic damages from flooding throughout the Ala Wai Watershed in Oahu, Hawaii. The Ala Wai Canal Flood Risk Management Study was authorized under Section 209 of the Flood Control Act of 1962. The study was completed in 2017 and resulted in a recommendation that was subsequently authorized for construction under Section 1401 of the Water Resources Development Act of 2018 (Authorized Project). The purpose of the GRR/SEIS is to reevaluate the Authorized Project and either confirm the Authorized Project or make a new recommendation that will include modifications to the Authorized Project. The non-Federal sponsor for this study is the City and County of Honolulu.

DATES: To ensure consideration, all comments concerning the scope of the GRR/SEIS, potential alternatives, and identification of relevant information and studies must be received by March 24, 2023.

ADDRESSES: You may submit comments related to the GRR/SEIS by any of the following methods:

• Website: https://www.honolulu.gov/alawai/contact.html.

• Email: alawai@honolulu.gov.

• Mail: U.S. Army Corps of Engineers, Honolulu District, 230 Otake St. (Attn: POH-PPC, Ala Wai), Fort Shafter, HI 96858-5440.

FOR FURTHER INFORMATION CONTACT: For further information about this project, please visit https://www.honolulu.gov/alawai. You may also contact Shawna Herleth-King at 312-846-5407 or by email at: shawna.s.herleth-king@usace.army.mil.

SUPPLEMENTARY INFORMATION:

1. Background: The Corps-Honolulu District received the authority to conduct the Ala Wai Canal Flood Risk Management Study under Section 209 of the Flood Control Act of 1962 (Public Law 84-874). The feasibility study's recommended plan consisted of six in-stream debris and detention basins of varying height in the upper reaches of the watershed, one standalone debris catchment structure, three multi-purpose detention basins, floodwalls along the Ala Wai Canal averaging four feet in height and an earthen levee at the perimeter of an adjacent golf course averaging seven feet in height, two pump stations to reduce the threat of interior flooding, and a flood warning system. The feasibility study determined the technical, economic, environmental, and social feasibility of the recommended plan to reduce flood risk within the Ala Wai Canal watershed of Honolulu, Hawaii.

Section 1401 of the Water Resources Development Act of 2018 (Public Law 115-270) authorized construction of the Ala Wai Canal Flood Risk Management Project, as described in the Chief's Report, (https://www.poh.usace.army.mil/Portals/10/docs/Civil%20Works%20Sponsor%20Letters/Tab%201%20Chiefs%20Report%20Ala%20Wai%20Chiefs%20Report%20SIGNED%20(003).pdf?ver=2018-09-14-171850-833), dated December 21, 2017, and the Ala Wai Canal Flood Risk Management Study, Oahu, Hawaii, Feasibility Study with Integrated Environmental Impact Statement, dated May 2017. The Federal Register notice (82 FR 24325, May 26, 2017) for the EIS being supplemented is available at https://www.govinfo.gov/content/pkg/FR-2017-05-26/pdf/2017-10719.pdf. The record of decision (ROD) was signed on September 18, 2018, initiating the next phase of the study, Preconstruction Engineering and Design (PED). In 2020, an Engineering Documentation Report (EDR) provided the technical basis for modifications necessary to the Authorized Project. Subsequent analysis found that the modifications in the 2020 EDR were not cost effective and lacked the economic justification necessary for continued federal involvement. Acknowledging the need to reduce the risk to life, safety and economic damages from flooding throughout the Ala Wai Watershed in Oahu, Hawaii, the Corps is currently reevaluating the previously completed Ala Wai Canal Flood Risk Management Study in a GRR, using current planning criteria and policies. Since the GRR is reevaluating alternatives and could result in a new recommendation, NEPA documentation for the Ala Wai Canal Flood Risk Management Project will be updated.

2. Proposed Action: The project is undergoing a GRR to (1) redefine the flood problems and risks in the Ala Wai Watershed by updating hydrology, physical, biological, and socioeconomic conditions; (2) reevaluate alternatives for reducing flood damages in the area; and (3) reaffirm the Federal interest by recommending a plan that is economically feasible. The results of this study will be presented in the GRR/SEIS. The formulation and evaluation of alternatives, benefits and costs, and implementation requirements will be presented in the GRR/SEIS.

3. Alternatives: A number of project alternatives will be evaluated in the GRR/SEIS. In addition to the No Action alternative, other potential alternatives to reduce flood damages include a combination of the following components: Makiki District Park detention basin, Manoa Valley District Park detention basin, Ala Wai Golf Course detention basin, Kaimuki High School berm/floodwall, Kanaha floodwall, Woodlawn Bridge floodwall, Koali Road floodwall, and Ala Wai Canal floodwall.

4. Scoping/Public Participation: The GRR/SEIS will be coordinated with Federal, State, and local government agencies; Native Hawaiian organizations; local stakeholders; special interest groups; and any other interested individuals and organizations. A 30-day scoping period for Federal, State, local agencies, and non-governmental organizations was held between August 9, 2021, through September 9, 2021, when the environmental document accompanying the GRR was anticipated to be a supplemental environmental assessment. The Corps held a public meeting to discuss the scope of the draft GRR and accompanying environmental documentation on November 10 and November 13, 2021. The virtual meeting dates and times were advertised in advance on the City and County of Honolulu's Ala Wai Study Flood Risk Management website (https://www.honolulu.gov/alawai/public-engagement.html). The purpose of these meetings was to involve local stakeholders and the public early in the study process. The meetings collected public input regarding the study scope, historic and current problems, and potential opportunities. Based on public feedback, additional virtual workshops/meetings were incorporated into the public engagement strategy for the study. To date, additional public engagement opportunities have occurred via virtual and/or in-person workshops/meetings held on January 20, 2022, April 1, 2022, April 8, 2022, April 14, 2022, April 22, 2022, July 26, 2022, July 28, 2022, and December 13, 2022.

Based on feedback from the public and the non-Federal sponsor, the environmental document being prepared to accompany the GRR is now anticipated to be a SEIS. Therefore, this notice of intent to prepare a GRR/SEIS is initiating a new 30-day public scoping period. Due to public workshops and meetings that have already occurred, no additional scoping meetings are planned at this time. All public comments received to date regarding the GRR/SEIS, either verbally or in writing, during prior meetings, workshops, and scoping periods will be considered by the Corps in the GRR/SEIS.

5. Anticipated Impacts, Permits, and Authorization: The GRR/SEIS will analyze the full range of impacts, both beneficial and negative, of the alternatives. Potentially significant issues to be analyzed include impacts to water quality, biological resources, endangered and threatened species and their habitats, cultural resources, and visual resources. Other impacts that will be analyzed include geology, seismicity, and soils; surface water resources; hydrology and hydraulics; land use; recreation; hazardous and toxic waste; air quality; noise; traffic and transportation; public health and safety; public services and utilities; socioeconomics; and environmental justice. Anticipated permits and authorizations include water quality certification and Coastal Zone Consistency Determination. In addition, many other Federal, State, and local authorizations will be required for the Project. Applicable Federal laws include NEPA, the Endangered Species Act, Fish and Wildlife Coordination Act, Magnuson-Stevens Fishery Conservation and Management Act, Marine Mammal Protection Act, Coastal Zone Management Act, National Historic Preservation Act, and the Clean Water Act.

6. Public Comment Availability: Comments received in response to this solicitation, including names and addresses of those who comment, will be part of the public record. Comments submitted anonymously will be accepted and considered. Before including your address, phone number, email address, or other personal identifying information in your comment, be advised that your entire comment—including your personal identifying information—may be made publicly available at any time. While you can ask us in your comment to withhold your personal identifying information from public review, we cannot guarantee that we will be able to do so.

7. Study Schedule: The Draft GRR/SEIS is currently estimated to be available to the public in Summer 2023, with a 45-day public review and comment period following release of the draft document.

Kimberly A. Peeples,
Brigadier General, U.S. Army, Commander, Great Lakes and Ohio River Division.

[FR Doc. 2023-03622 Filed 2-21-23; 8:45 am]

BILLING CODE 3720-58-P